DEPARTMENT OF COMMERCE

Foreign-Trade Zones Board

[B-104-2013]

Foreign-Trade Zone (FTZ) 100—Dayton, Ohio; Notification of Proposed Production Activity; THOR Industries, Inc. (Commercial Bus Manufacturing); Jackson Center, Ohio

The Greater Dayton Foreign-Trade Zone, Inc., grantee of FTZ 100, submitted a notification of proposed production activity to the FTZ Board on behalf of THOR Industries, Inc. (THOR), located in Jackson Center, Ohio. The notification conforming to the requirements of the regulations of the FTZ Board (15 CFR 400.22) was received on November 26, 2013.

THOR already has authority to produce recreational vehicles within FTZ Subzone 100D. The current request would add a finished product and a foreign-status component to the scope of authority. Pursuant to 15 CFR 400.14(b), additional FTZ authority would be limited to the specific foreign-status component and specific finished product described in the submitted notification (as described below) and subsequently authorized by the FTZ Board.

Production under FTZ procedures could exempt THOR from customs duty payments on the foreign status components used in export production. On its domestic sales, THOR would be able to choose the duty rates during customs entry procedures that apply to commercial buses (duty rate of 2%) for the foreign status inputs noted below and in the existing scope of authority. Customs duties also could possibly be deferred or reduced on foreign status production equipment.

The component sourced from abroad is: Chassis (duty rate of 25%).

Public comment is invited from interested parties. Submissions shall be addressed to the Board's Executive Secretary at the address below. The closing period for their receipt is January 21, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: December 5, 2013.
Andrew McGilvray,
Executive Secretary.

[FR Doc. 2013-29594 Filed 12-10-13; 8:45 am]

BILLING CODE 3510-DS-P